GENERAL ACCOUNTING OFFICE PERSONNEL APPEALS BOARD

4 CFR Parts 27 and 28

Procedural Rules

AGENCY: General Accounting Office Personnel Appeals Board.

ACTION: Final rule.

SUMMARY: The General Accounting Office Personnel Appeals Board (PAB) has authority with respect to employment practices within the General Accounting Office (GAO or agency), pursuant to the General Accounting Office Personnel Act of 1980 (GAOPA). The PAB hereby finalizes its regulations to explain that a quorum of three members of the Board may exercise all the powers of the Board, and that a majority of a quorum may act in any matter requiring consideration by the full Board.

DATES: These regulations are effective March 22, 2000.

FOR FURTHER INFORMATION CONTACT: Beth Don, Executive Director, 202-512-6137.

SUPPLEMENTARY INFORMATION: The General Accounting Office Personnel Appeals Board on Tuesday, March 30, 1999, published an interim rule with request for comments by June 1, 1999, amending the PAB regulations. The interim rule conformed the regulations to Board policy recognizing that a quorum of three members of the Board may exercise all the powers of the Board, and that a majority of a quorum may act in any matter requiring consideration by the full Board. No comments on the interim rule were received by the Board.

List of Subjects in 4 CFR Parts 27 and 28

Administrative practice and procedures, Equal employment opportunity, Government employees, Labor-management relations.

For the reasons set forth in the preamble, the General Accounting Office Personnel Appeals Board amends 4 CFR Chapter I, Subchapter B as follows:

PARTS 27 AND 28—GENERAL ACCOUNTING OFFICE PERSONNEL APPEALS BOARD; PROCEDURES APPLICABLE TO CLAIMS CONCERNING EMPLOYMENT PRACTICES AT THE GENERAL ACCOUNTING OFFICE

The interim rule amending 4 CFR parts 27 and 28 which was published at 64 FR 15125 on March 30, 1999, is adopted as a final rule without change.

Michael Wolf,
Chair, Personnel Appeals Board, U.S. General Accounting Office.

[FR Doc. 00-7128 Filed 3-21-00; 8:45 am]

BILLING CODE 1610-02-M